FEDERAL COMMUNICATIONS COMMISSION

[FRS 16819]

Radio Broadcasting Services; AM or FM Proposals To Change the Community of License

AGENCY: Federal Communications Commission.

ACTION: Notice.

DATES: The agency must receive comments on or before August 7, 2020.

ADDRESSES: Federal Communications Commission, 445 12th Street SW, Washington, DC 20554.

FOR FURTHER INFORMATION CONTACT: Rolanda F. Smith, 202-418-2054.

SUPPLEMENTARY INFORMATION: The following applicants filed AM or FM proposals to change the community of license: COCHISE MEDIA LICENSES LLC, KDVK(FM), Fac. ID No. 190470, From: DOVE CREEK, CO, To: NAVAJO MOUNTAIN, UT, File No. 0000106665; ROX RADIO GROUP, LLC, KREB(AM), Fac. ID No. 30935, From: BENTONVILLE-BELLA, AR, To: GENTRY, AR, File No. BP-20200330AAI; ROX RADIO GROUP, LLC, KFFK(AM), Fac. ID No. 31882, From: ROGERS, AR, To: DECATUR, AR, File No. BP-20200330AAH; RADIOACTIVE, LLC, WPLA(FM), Fac. ID No. 164251, From: DANNEMORA, NY, To: PLATTSBURGH WEST, NY, File No. 0000112361; RADIOACTIVE, LLC, WIRY-FM, Fac. ID No.166029, From: PLATTSBURGH WEST, NY, To: RAY BROOK, NY, File No. 0000112362; NORTH COUNTRY RADIO, INC., WSLP(FM), Fac. ID No. 165944, From: SARANAC LAKE, NY, To: WARRENSBURG, NY, File No. 0000112363; NELSON MULTIMEDIA, INC, WSPY(AM), Fac. ID No. 69700, From: GENEVA, IL, To: SOMONAUK, IL, File No. BP-20200508AAR; SUTTON RADIOCASTING CORPORATION, WFSC(AM), Fac. ID No. 14554, From: FRANKLIN, NC, To: CLAYTON, GA, File No. BP-20200511AAD; and WRBN Radio Station, WRBN(FM), Fac. ID No. 56201, From: CLAYTON, GA, To: TOCCOA, GA, File No. 0000113473. The full text of these applications are available electronically via the Media Bureau's Consolidated Data Base System, https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2020-12280 Filed 6-5-20; 8:45 am]

BILLING CODE 6712-01-P